DEPARTMENT OF COMMERCE

International Trade Administration

[Application No. 14-5A004]

Export Trade Certificate of Review

ACTION: Notice of Application for an Amended Export Trade Certificate of Review by DFA of California (“DFA”), Application No. 14-5A004.

SUMMARY: The Secretary of Commerce, through the International Trade Administration, Office of Trade and Economic Analysis (OTEA), has received an application for an amended Export Trade Certificate of Review (Certificate) from DFA. This notice summarizes the proposed amendment and seeks public comments on whether the amended Certificate should be issued.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325 (2018) (the “Regulations”). OTEA is issuing this notice pursuant to 15 CFR 325.6(a), which requires the Secretary of Commerce to publish a summary of the application in the Federal Register, identifying the applicant and each member and summarizing proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 14-5A004.”

Summary of the Application

Applicant: DFA of California.

Contact: Matthew Krehe, (916) 646-6464.

Application No.: 14-5A004.

Date Deemed Submitted: December 18, 2018.

Proposed Amendment: DFA seeks to amend its Certificate as follows:

1. Add the following new Members of the Certificate within the meaning of section 325.2(1) of the Regulations (15 CFR 325.2(1)):

• The DeRousi Group LLC—DBA DeRousi Nut

• Santa Clara Nut Company

DFA's proposed amendment of its Export Trade Certificate of Review results in the following Membership list:

1. Alpine Pacific Nut Company, Hughson, CA

2. Andersen & Sons Shelling, Vina, CA

3. Avanti Nut Company, Inc., Stockton, CA

4. Berberian Nut Company, LLC, Chico, CA

5. Carriere Family Farms, Inc., Glenn, CA

6. California Almond Packers and Exporters, Inc. (CAPEX), Corning CA

7. California Walnut Company, Inc., Los Molinos, CA

8. Chico Nut Company, Chico, CA

9. Continente Nut LLC, Oakley, CA

10. C. R. Crain & Sons, Inc., Los Molinos, CA

11. Crain Walnut Shelling, Inc., Los Molinos, CA

12. Diamond Foods, LLC, Stockton, CA

13. Empire Nut Company, Colusa, CA

14. Fig Garden Packing, Inc., Fresno, CA

15. Gold River Orchards, Inc., Escalon, CA

16. Grower Direct Nut Company, Hughson, CA

17. Guerra Nut Shelling Company, Hollister, CA

18. Hill View Packing Company Inc., Gustine, CA

19. John B. SanFilippo & Son, Inc.

20. Mariani Nut Company, Winters, CA

21. Mariani Packing Company, Inc., Vacaville, CA

22. Mid Valley Nut Company Inc., Hughson, CA

23. Morada Nut Company, LP, Stockton, CA

24. National Raisin Company, Fowler, CA

25. O-G Nut Company, Stockton, CA

26. Omega Walnut, Inc., Orland, CA

27. Pearl Crop, Inc., Stockton, CA

28. Poindexter Nut Company, Selma, CA

29. Prima Noce Packing, Linden, CA

30. RPC Packing Inc., Porterville, CA

31. Sacramento Packing, Inc., Yuba City, CA

32. Sacramento Valley Walnut Growers, Inc., Yuba City, CA

33. San Joaquin Figs, Inc., Fresno, CA

34. Santa Clara Nut Company, San Jose, CA

35. Shoei Foods USA Inc., Olivehurst, CA

36. Stapleton-Spence Packing, Gridley, CA

37. Sun-Maid Growers of California, Kingsburg, CA

38. Sunsweet Growers Inc., Yuba City, CA

39. Taylor Brothers Farms, Inc., Yuba City, CA

40. The DeRousi Group LLC—DBA DeRousi Nut, Escalon, CA

41. T.M. Duche Nut Company, Inc., Orland, CA

42. Wilbur Packing Company, Inc., Live Oak, CA

43. Valley Fig Growers, Fresno, CA

Dated: January 28, 2019.
Joseph Flynn,
Director, Office of Trade and Economic Analysis, International Trade Administration, U.S. Department of Commerce.

[FR Doc. 2019-00576 Filed 1-31-19; 8:45 am]

BILLING CODE 3510-DR-P